DEPARTMENT OF LABOR

Employment and Training Administration

[NAFTA-04543, et al.]

AgriFrozen Foods, Woodburn, Oregon, et al.; Amended Certification Regarding Eligibility To Apply for NAFTA Transitional Adjustment Assistance

In accordance with section 250(a), Subchapter 2, Title II, of the Trade Act of 1974, as amended (19 U.S.C. 2273), the Department of Labor issued a Certification of Eligibility to Apply for NAFTA Transitional Adjustment Assistance on April 17, 2001, applicable to workers of AgriFrozen Foods, Woodburn, Oregon. The notice was published in the Federal Register on May 3, 2001 (66 FR 22263).

At the request of the State agency, the Department reviewed the certification for workers of the subject firm. The workers are engaged in the production of frozen vegetables. New findings show that worker separations occurred at AgriFrozen Foods' headquarters office in Salem, Oregon and at two production facilities in Grandview and Walla Walla, Washington. Findings also show that all remaining workers of the subject firm will be separated when it closes at the end of June, 2001.

The intent of the Department's certification is to include all workers of AgriFrozen Foods who were adversely affected by an increase in company imports of frozen vegetables from Mexico.

Accordingly, the Department is amending the certification to properly reflect this matter.

The amended notice applicable to NAFTA-04543 is hereby issued as follows:

All workers of AgriFrozen Foods, Woodburn, Oregon (NAFTA-TAA-04543), Salem, Oregon (NAFTA-04543A), Grandview, Washington (NAFTA-04543B) and Walla Walla, Washington (NAFTA-TAA-04543C) who became totally or partially separated from employment on or after February 9, 2000 through April 17, 2003 are eligible to apply for NAFTA-TAA under Section 250 of the Trade Act of 1974.

Signed at Washington, DC this 22nd day of May, 2001.
Edward A. Tomchick,
Director, Division of Trade Adjustment Assistance.

[FR Doc. 01-14422 Filed 6-7-01; 8:45 am]

BILLING CODE 4510-30-M